ENVIRONMENTAL PROTECTION AGENCY

[FRL-8920-3]

Request for Nominations to the Children's Health Protection Advisory Committee (CHPAC)

AGENCY: Environmental Protection Agency (EPA).

ACTION: Notice of Request for Nominations.

SUMMARY: The U.S. Environmental Protection Agency invites nominations to fill vacancies on its Children's Health Protection Advisory Committee (CHPAC). The Agency seeks qualified senior-level decision makers from diverse sectors throughout the United States to be considered for appointments. EPA encourages interested applicants to send their resumes and qualifications as soon as possible by July 24, 2009. Additional avenues and resources may be utilized in the solicitation of nominees.

ADDRESSES: Submit nominations via e-mail or fax to Martha Berger, Designated Federal Officer, berger.martha@epa.gov, 202-564-2733 (fax), Office of Children's Health Protection, U.S. Environmental Protection Agency (1107A), 1200 Pennsylvania Avenue, NW., Washington, DC 20460.

Background: The CHPAC is a Federal advisory committee under the Federal Advisory Committee Act, Public Law 92463. The U.S. Environmental Protection Agency established the CHPAC in 1998 to provide independent advice to the EPA Administrator on regulations, research, and communications issues relevant to children's environmental health. CHPAC consists of representatives from industry, private foundations, pediatricians, nurses, scientists, environmental organizations, citizen organizations/networks, Federal government, environmental justice community, state/local/tribal governments, outreach groups, user/processors (i.e., foods), and economists.

Members are appointed by the Administrator of EPA for two year terms with the possibility of reappointment for up to 6 years. The Committee usually meets 3-4 times annually (with additional teleconference meetings as needed) and the average workload for the members is approximately 10 to 15 hours per month. Members serve on the Committee in a voluntary capacity; however, EPA provides reimbursement for travel expenses associated with official government business.

Potential candidates should possess the following qualifications: Occupy a senior position within their organization; Broad experience outside of their current position; Experience dealing with public policy issues affecting children; Membership in broad-based networks; Recognized expert in matters affecting children's health to be addressed by the CHPAC.

EPA is seeking nominees for diverse representation from all sectors, in particular federal, state, local and tribal agencies, academia, healthcare, public health, industry, environmental justice, and non-governmental organizations.

Nominations for membership must include a resume and short (one or two pages) biography describing the educational and professional qualifications of the nominee, the interest of the nominee in children's environmental health issues, and the nominee's current business address, e-mail address, and daytime telephone number.

FOR FURTHER INFORMATION CONTACT: Martha Berger, Office of Children's Health Protection, USEPA, MC 1107A, 1200 Pennsylvania Avenue, NW., Washington, DC 20460, (202) 564-2191, berger.martha@epa.gov.

Martha Shimkin,
Director, Child and Aging Health Protection Division.

[FR Doc. E9-14861 Filed 6-23-09; 8:45 am]

BILLING CODE 6560-50-P